DEPARTMENT OF TRANSPORTATION

Federal Highway Administration

Record of Decision: City of St. Louis and St. Louis County, MO

AGENCY: Federal Highway Administration (FHWA), DOT.

ACTION: Notice of Record of Decision.

SUMMARY: The FHWA is issuing this notice to advise interested parties that a Record of Decision has been signed for the Final Environmental Impact Statement (FEIS) for an Interstate reconstruction project in the City of St. Louis and St. Louis County, Missouri.

FOR FURTHER INFORMATION CONTACT: Ms. Peggy J. Casey, Environmental Projects Engineer, FHWA A Division Office, 209 Adams Street, Jefferson City, MO 65101, Telephone: (573) 638-2620 or Ms. Kathryn Harvey, State Design Engineer, Missouri Department of Transportation, 105 West Capitol Avenue, P.O. Box 270, Jefferson City, MO 65102, Telephone: (573) 751-2876.

SUPPLEMENTARY INFORMATION: The FHWA, in cooperation with the Missouri Department of Transportation (MoDOT), has prepared an FEIS for a project on I-64/U.S. 40 from west of Spoede Road to west of Sarah Street in St. Louis County and the City of St. Louis. Mr. Allen Masuda, FHWA Missouri Division Administrator, signed the Record of Decision for this project on July 18, 2005. This notice is being published in accordance with Section 6002 of SAFETEA-LU.

The selected alternative will replace deteriorated pavement and structurally deficient and functionally obsolete bridges; and will improve geometrics, traffic operations and safety. I-64 will be widened from six lanes to eight lanes between Spoede Road and I-170. The selected alternative was chosen following a collaborative decision-making process that included a thorough consideration of all social, economic and environmental factors with an extensive involvement of resource agencies, local governments, organizations and the general public. The FEIS includes completion and approval of a Final Section 4(f) Evaluation for impacts to parks and historic sites.

The ROD and other NEPA documents are available on the project Web site at http://www.thenewi64.org/ or by contacting FHWA or MoDOT at the addresses previously provided.

Dated: Issued on: September 27, 2005.
Peggy J. Casey,
Environmental Projects Engineer, Jefferson City.

[FR Doc. 05-19828 Filed 10-3-05; 8:45 am]

BILLING CODE 4910-22-M